DEPARTMENT OF TRANSPORTATION

Federal Motor Carrier Safety Administration

[Docket No. FMCSA-2011-0141]

Qualification of Drivers; Exemption Applications; Vision

AGENCY: Federal Motor Carrier Safety Administration (FMCSA), DOT.

ACTION: Notice of applications for exemptions; request for comments.

SUMMARY: FMCSA announces receipt of applications from 9 individuals for exemption from the vision requirement in the Federal Motor Carrier Safety Regulations. If granted, the exemptions would enable these individuals to qualify as drivers of commercial motor vehicles (CMVs) in interstate commerce without meeting the Federal vision standard.

DATES: Comments must be received on or before August 8, 2011.

ADDRESSES: You may submit comments bearing the Federal Docket Management System (FDMS) Docket No. FMCSA-2011-0141 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 9 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Joe M. Flores

Mr. Flores, age 34, has had a macular hole in his left eye since 2006. The best corrected visual acuity in his right eye is 20/20 and in his left eye, 20/200. Following an examination in 2011, his optometrist noted, “Joe has sufficient vision peripherally in both eyes and centrally in his right eye to operate a commercial vehicle.” Mr. Flores reported that he has driven tractor-trailer combinations for 4 years, accumulating 180,000 miles. He holds a Commercial Driver's License (CDL) Class A from New Mexico. His driving record for the last 3 years shows no crashes and no convictions for moving violations in a Commercial Motor Vehicle (CMV).

Matthew K. Hagge

Mr. Hagge, 31, has had optic atrophy in his right eye since 2007 due to multiple sclerosis. The visual acuity in his right eye is 20/250 and in his left eye, 20/20. Following an examination in 2011, his ophthalmologist noted, “Visual acuity fine for performing commercial vehicle driving.” Mr. Hagge reported that he has driven straight trucks for 4 years, accumulating 20,000 miles and tractor-trailer combinations for 7 years, accumulating 420,000 miles. He holds a CDL Class A from North Dakota. His driving record for the last 3 years shows no crashes and no convictions for moving violations in a CMV.

James O. Howard

Mr. Howard, 48, has had amblyopia in his left eye since age 6. The best corrected visual acuity in his right eye is 20/20 and in his left eye, 20/100. Following an examination in 2011, his optometrist noted, “Mr. James Howard has sufficient vision to perform the driving tasks required to operate a commercial vehicle.” Mr. Howard reported that he has driven straight trucks for 14 years, accumulating 291,200 miles. He holds a Class C operator's license from California. His driving record for the last 3 years shows no crashes and no convictions for moving violations in a CMV.

Ramon Melendez

Mr. Melendez, 57, has had amblyopia in his left eye since childhood. The best corrected visual acuity in his right eye is 20/20 and in his left eye, 20/200. Following an examination in 2011, his ophthalmologist noted, “certified by David Lichtenstain to have sufficient vision to operate a commercial vehicle and do driving tasks.” Mr. Melendez reported that he has driven tractor-trailer combinations for 14 years, accumulating 1.1 million miles. He holds a Class A CDL from New Jersey. His driving record for the last 3 years shows no crashes and no convictions for moving violations in a CMV.

Matthew D. Nelson

Mr. Nelson, 27, has had refractive amblyopia in his left eye since birth. The best visual acuity in his right eye is 20/20 and in his left eye, 20/50. Following an examination in 2011, his optometrist noted, “Matthew's vision is sufficient to perform the driving tasks required to operate a commercial vehicle.” Mr. Nelson reported that he has driven straight trucks for 3½ years, accumulating 56,000 miles. He holds a Class A CDL from Florida. His driving record for the last 3 years shows no crashes, but one conviction for a moving violation in a CMV; failure to observe a stop sign.

Jesse A. Nosbush

Mr. Nosbush, 31, has complete loss of vision in his left eye due to a work related accident in 1998. The visual acuity in his right eye is 20/20. Following an examination in 2011, his optometrist noted, “It is in my opinion that Jesse, even knowing that he has one eye, should not have any difficulty when it comes to operating a commercial motor vehicle.” Mr. Nosbush reported that he has driven tractor-trailer combinations for 9 years, accumulating 495,000 miles. He holds a Class A CDL from Minnesota. His driving record for the last 3 years shows one crash, for which he was cited, and no convictions for moving violations in a CMV.

Richard E. Purvenas, Jr.

Mr. Purvenas, 51, has a prosthetic left eye. The visual acuity in his right eye is 20/20. Following an examination in 2011, his optometrist noted, “It is my understanding that Mr. Purvenas has maintained a safe driving record for many years and has always driven without having any vision in the left eye. Since it has always been non-existent, he has functioned well, and his peripheral visual acuity is excellent there is no reason to believe that he cannot continue to operate commercial vehicles.” Mr. Purvenas reported that he has driven buses for 5 years, accumulating 400,000 miles. He holds a Class D operator's license from Delaware. His driving record for the last 3 years shows no crashes and no convictions for moving violations in a CMV.

Wilfred E. Sweatt

Mr. Sweatt, 50, has had amblyopia in his left eye since childhood. The best corrected visual acuity in his right eye is 20/20 and in his left eye, 20/50. Following an examination in 2011, his optometrist noted, “He has sufficient vision to perform the driving tasks required to operate a commercial vehicle.” Mr. Sweatt reported that he has driven straight trucks for 8 years, accumulating 176,000 miles. He holds an operator's license from New Hampshire. His driving record for the last 3 years shows no crashes and no conviction for moving violations in a CMV.

Thomas L. Swatley

Mr. Swatley, 55, has had amblyopia in his left eye since childhood. The best corrected visual acuity in his right eye is 20/20 and in his left eye, 20/50. Following an examination in 2011, his optometrist noted, “Mr. Swatley appears to have stable visual function at the present time that is not an impediment to his operating commercial vehicles.” Mr. Swatley reported that he has driven straight trucks for 35 years, accumulating 1.1 million miles and tractor-trailer combinations for 3 years, accumulating 450,000 miles. He holds a Class A CDL from Tennessee. His driving record for the last 3 years shows no crashes and no conviction for moving violations in a CMV.

Request for Comments

In accordance with 49 U.S.C. 31136(e) and 31315, FMCSA requests public comment from all interested persons on the exemption petitions described in this notice. The Agency will consider all comments received before the close of business August 8, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 29, 2011.
Larry W. Minor,
Associate Administrator.

[FR Doc. 2011-17184 Filed 7-7-11; 8:45 am]

BILLING CODE 4910-EX-P